LIBRARY OF CONGRESS

Copyright Office

37 CFR Part 201

[Docket No. RM 2010-3]

Refunds Under the Cable Statutory License

AGENCY: Copyright Office, Library of Congress.

ACTION: Notice of proposed rulemaking; correction.

SUMMARY: The Copyright Office published in the Federal Register of October 4, 2010, a notice of proposed rulemaking concerning refunds under the cable statutory license. This document corrects the date for submitting reply comments.

FOR FURTHER INFORMATION CONTACT: Ben Golant, Assistant General Counsel, and Tanya M. Sandros, Deputy General Counsel, Copyright GC/I&R, P.O. Box 70400, Washington, DC 20024. Telephone: (202) 707-8380. Telefax: (202) 707-8366.

Correction

In proposed rule RM 2010-3, make the following correction in the Dates section. On page 61117 in the 2nd column, correct the DATES caption to read:

DATES: Written comments must be received in the Office of the General Counsel of the Copyright Office no later than November 3, 2010. Reply comments must be received in the Office of the General Counsel of the Copyright Office no later than December 3, 2010.

Dated: October 6, 2010.
Tanya Sandros,
Deputy General Counsel, U.S. Copyright Office.

[FR Doc. 2010-25652 Filed 10-8-10; 8:45 am]

BILLING CODE 1410-30-P